DEPARTMENT OF HEALTH AND HUMAN SERVICES

National Institutes of Health

Center for Scientific Review; Cancellation of Meeting

Notice is hereby given of the cancellation of the Center for Scientific Review Special Emphasis Panel, December 10, 2009, 2 p.m. to December 10, 2009, 5:00 PM, National Institutes of Health, 6701 Rockledge Drive, Bethesda, MD 20892 which was published in the Federal Register on November 20, 2009, 74 FR 60278-60279.

The meeting is cancelled due to the reassignment of the applications.

Dated: December 1, 2009.
Jennifer Spaeth,
Director, Office of Federal Advisory Committee Policy.

[FR Doc. E9-29094 Filed 12-4-09; 8:45 am]

BILLING CODE 4140-01-P